POSTAL REGULATORY COMMISSION

[Docket No. ACR2015; Order No. 3027]

Postal Service Performance Report and Performance Plan

AGENCY: Postal Regulatory Commission.

ACTION: Notice.

SUMMARY: On December 29, 2015, the Postal Service filed the FY 2015 Performance Report and FY 2016 Performance Plan with its FY 2014 Annual Compliance Report. This notice informs the public of the filing, invites public comment, and takes other administrative steps.

DATES: Comments are due: February 26, 2016. Reply Comments are due: March 7, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Background

III. Request for Comments

IV. Ordering Paragraphs

I. Introduction

Each fiscal year, the Postal Service prepares an annual performance plan and a report on program performance as required under 39 U.S.C. 2803 and 2804. Pursuant to 39 U.S.C. 3652(g), the Postal Service filed its FY 2015 Annual Report in Docket No. ACR2015.¹ The FY 2015 Annual Report includes the FY 2015 Annual Performance Report and the FY 2016 Annual Performance Plan. Annual Report at 11-28.

¹ United States Postal Service 2015 Annual Report to Congress, Library Reference USPS-FY15-17, December 29, 2015 (FY 2015 Annual Report).

The Commission must evaluate whether the Postal Service met its performance goals in FY 2015. See 39 U.S.C. 3653(d). The Commission may also provide recommendations to the Postal Service “related to the protection or promotion of public policy objectives set out in” title 39. Id.

II. Background

Prior to Docket No. ACR2013, the Commission analyzed performance reports and performance plans as part of the Annual Compliance Determination (ACD). The Commission later determined that its obligations under 39 U.S.C. 3653(d) are distinguishable from its ACD obligations under 39 U.S.C. 3653(b). In Docket Nos. ACR2013 and ACR2014, the Commission issued separate reports analyzing the Postal Service's performance reports and performance plans.² By issuing separate reports, the Commission provided more in-depth analysis of the Postal Service's performance goals.

² Docket No. ACR2013, Postal Regulatory Commission, Review of Postal Service FY 2013 Performance Report and FY 2014 Performance Plan, July 7, 2014; Docket No. ACR2014, Postal Regulatory Commission, Analysis of the Postal Service's FY 2014 Program Performance Report and FY 2015 Performance Plan, July 7, 2015.

As it did in Docket Nos. ACR2013 and ACR2014, the Commission will issue its analysis of the FY 2015 Annual Performance Report and the FY 2016 Annual Performance Plan separately from the FY 2015 ACD. To facilitate this review, the Commission is establishing a separate comment period and invites public comment to consider the following issues:

• Did the Postal Service meet its performance goals in FY 2015?

• Do the FY 2015 Annual Performance Report and the FY 2016 Annual Performance Plan meet applicable statutory requirements, including 39 U.S.C. 2803 and 2804?

• What recommendations should the Commission provide to the Postal Service that relate to protecting or promoting public policy objectives in title 39?

• What recommendations or observations should the Commission make concerning the Postal Service's strategic initiatives? ³

³ See FY 2015 Annual Report at 64-65.

• What other matters are relevant to the Commission's analysis of the FY 2015 Annual Performance Report and the FY 2016 Annual Performance Plan under 39 U.S.C. 3653(d)?

III. Request for Comments

Comments by interested persons are due no later than February 26, 2016. Reply comments are due no later than March 7, 2016. Pursuant to 39 U.S.C. 505, Lyudmila Y. Bzhilyanskaya is appointed to serve as Public Representative to represent the interests of the general public in this docket with respect to issues related to the Commission's analysis of the FY 2015 Annual Performance Report and the FY 2016 Annual Performance Plan.

IV. Ordering Paragraphs

It is ordered:

1. The Commission invites public comment on the Postal Service's FY 2015 Annual Performance Report and FY 2016 Annual Performance Plan.

2. Pursuant to 39 U.S.C. 505, the Commission appoints Lyudmila Y. Bzhilyanskaya to serve as Public Representative to represent the interests of the general public in this proceeding with respect to issues related to the Commission's analysis of the FY 2015 Annual Performance Report and the FY 2016 Annual Performance Plan.

3. Comments are due no later than February 26, 2016.

4. Reply comments are due no later than March 7, 2016.

5. The Secretary shall arrange for publication of this order in the Federal Register.

By the Commission.
Ruth Ann Abrams,
Acting Secretary.

[FR Doc. 2016-01086 Filed 1-20-16; 8:45 am]

BILLING CODE 7710-FW-P